DEPARTMENT OF JUSTICE

Antitrust Division

Notice Pursuant to the National Cooperative Research and Production Act of 1993—Cooperative Research Group on Clean Diesel VI

Notice is hereby given that, on July 24, 2015, pursuant to Section 6(a) of the National Cooperative Research and Production Act of 1993, 15 U.S.C. 4301 et seq. (“the Act”), Southwest Research Institute—Cooperative Research Group on Clean Diesel VI (“Clean Diesel VI”) has filed written notifications simultaneously with the Attorney General and the Federal Trade Commission disclosing changes in its membership. The notifications were filed for the purpose of extending the Act's provisions limiting the recovery of antitrust plaintiffs to actual damages under specified circumstances. Specifically, Detroit Diesel, Troy, MI; Komatsu/IPA, Tochigi-ken, JAPAN; and Sasol Technology (PTY), Ltd., Roebank, SOUTH AFRICA have been added as parties to this venture.

Also, Eaton, Marshall, MI has withdrawn as a party to this venture.

No other changes have been made in either the membership or planned activity of the group research project. Membership in this group research project remains open, and Clean Diesel VI intends to file additional written notifications disclosing all changes in membership.

On July 16, 2012, Clean Diesel VI filed its original notification pursuant to Section 6(a) of the Act. The Department of Justice published a notice in the Federal Register pursuant to Section 6(b) of the Act on August 10, 2012 (77 FR 47882).

Patricia A. Brink,
Director of Civil Enforcement, Antitrust Division.

[FR Doc. 2015-21011 Filed 8-24-15; 8:45 am]

BILLING CODE 4410-11-P